DEPARTMENT OF DEFENSE

Defense Acquisition Regulations System

48 CFR Part 215

Contracting by Negotiation

CFR Correction

In Title 48 of the Code of Federal Regulations, Chapter 2, Parts 200 to 299, revised as of October 1, 2014, on page 101, in section 215.404-71-4, in paragraph (f), remove the following two sentences: “These are the normal values and ranges. They apply to all situations.”

[FR Doc. 2015-23457 Filed 9-17-15; 8:45 am]

BILLING CODE 1505-01-D